DEPARTMENT OF ENERGY

Federal Energy Regulatory Commission

[Project No. 2077-016]

USGen New England Inc.; Notice Modifying a Restricted Service List for Comments on a Programmatic Agreement for Managing Properties Included in or Eligible for Inclusion in the National Register of Historic Places

March 1, 2000.

On July 14, 1998, the Federal Energy Regulatory Commission (Commission) issued a notice for the Fifteen Mile Falls Project (FERC No. 2077-016) proposing to establish a restricted service list for the purpose of developing and executing a Programmatic Agreement for managing properties included in or eligible for inclusion in the National Register of Historic Places. The Fifteen Mile Falls Project is located on the Connecticut River, in Grafton County, New Hampshire, and Caledonia County, Vermont. USGen New England, Inc. is the licensee.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010

The following two additions are made to the restricted service list notice issued on July 14, 1998, for Project No. 2077-016:

Nat Tripp, Connecticut River Joint Commissions, P.O. Box 1182, Charlestown, NH 03603

Brian Fitzgerald, VT DEC, Water Quality Division, 103 South Main Street, Building 10 North, Waterbury, VT 05671-0408

David P. Boergers,
Secretary.

[FR Doc. 00-5447 Filed 3-6-00; 8:45 am]

BILLING CODE 6717-01-M